DEPARTMENT OF ENERGY

Office of Energy Efficiency and Renewable Energy

Proposed Agency Information Collection

AGENCY: Office of Energy Efficiency and Renewable Energy, U.S. Department of Energy.

ACTION: Notice and request for comments.

SUMMARY: The Department of Energy (DOE) invites public comment on a proposed collection of information that DOE is developing for submission to the Office of Management and Budget (OMB) pursuant to the Paperwork Reduction Act of 1995. The proposed collection in support of the DOE's Small Business Vouchers (SBV) pilot will gather quantitative estimates of the pilot's impacts as well as capture implementation lessons learned. The information is needed to assess the impacts of the SBV Pilot, documenting that the investment is producing the expected results, and to determine ways to improve the pilot should it be expanded in scope.

The SBV Pilot is a funding mechanism structured to allow small businesses engaged in the renewable energy and energy efficiency sectors to collaborate with researchers at the DOE National Laboratories and to take advantage of the resources at the Labs that assist small businesses in proceeding through commercialization challenges. Respondents will include small businesses participating in the pilot as well a comparison group of businesses with Cooperative Research and Development Agreements (CRADA) outside of the SBV Pilot.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 9, 2016. If you anticipate difficulty in submitting comments within that period, contact the person listed in ADDRESSES as soon as possible.

ADDRESSES: Written comments may be emailed to: Jeff.Dowd@ee.doe.gov or mailed to Jeff Dowd, U.S. Department of Energy, EE-61P, 1000 Independence Ave. SW., Washington, DC 20585.

FOR FURTHER INFORMATION CONTACT: Requests for additional information or copies of the information collection instrument and instructions should be emailed to: Jeff.Dowd@ee.doe.gov. Requests may also be mailed to Jeff Dowd, U.S. Department of Energy, EE-61P, 1000 Independence Ave. SW., Washington, DC 20585. Calls may be directed to Jeff Dowd at (202) 586-7258.

SUPPLEMENTARY INFORMATION: This information collection request contains: (1) OMB No. “New”; (2) Information Collection Request Title: Web-survey of Participating and Nonparticipating Small Businesses for DOE's Small Business Vouchers Pilot (3) Type of Request: New; (4) Purpose: To evaluate the effectiveness and impacts of DOE's Small Business Vouchers (SBV) pilot program, to capture lessons learned, and make recommendations; the information collection will be through a web based survey, allowing participating SBV firms and the comparison firms to answer questions at a time most convenient for them. The web survey will consist of two full-length surveys, conducted once after the first year of vouchers has been completed and once five years after the pilot began, and three abbreviated surveys in the interim years (years two, three and four). The first full-length survey (30 minutes in length for about 70 SBV participants and about 70 comparison firms) will stress questions about the application, selection, work agreement and completion processes and also ask about commercialization progress and other outcomes. The survey in year five (30 minutes in length) will ask about 300 firms participating in SBV from Years 1-4 and about 100 comparison firms about interest in continuing to engage with the national Laboratories, but concentrate on commercialization and other outcomes and how much the DOE program contributed to the outcomes. The abbreviated, interim-year surveys will be 15 minutes in length and will provide status updates on SBV pilot impacts such as commercialization and other outcomes. The purpose of also surveying small business firms that have completed similar work through the existing CRADA process is to investigate similarities and differences in the two small business engagement programs. The data collected in the year five survey will also be used to perform a benefit-cost calculation and benchmark comparison of voucher firms to firms in the DOE Small Business Innovation Research (SBIR) program, based on existing SBIR data. (5) Annual Estimated Number of Respondents Year 1 Survey: 140; Year 5 Survey: 400; Year 2, 3 and 4 Survey: 300. (6) Annual Estimated Number of Total Responses: Year 1 Survey: 140; Year 5 Survey: 400; Year 2, 3 and 4 Survey: 300 (7) Annual Estimated Number of Burden Hours (Total): Year 1 Survey: 70; Year 5 Survey: 200; Year 2, 3 and 4 Survey: 75 (8) Annual Estimated Reporting and Recordkeeping Cost Burden: Year 1 Survey: $0; Year 5 Survey: $0; Year 2, 3 and 4 Survey: $0.

Statutory Authority: DOE Org Act (42 U.S.C. 7101, et seq.) and 42 U.S.C. 16191 (AMO authority).

Issued in Washington, DC.
Joyce Yang,
EERE National Laboratory Impact Director, Office of Energy Efficiency and Renewable Energy, Department of Energy.

[FR Doc. 2015-31259 Filed 12-10-15; 8:45 am]

BILLING CODE 6450-01-P